DEPARTMENT OF COMMERCE

National Oceanic and Atmospheric Administration

RIN 0648-XH51

Unified Synthesis Product Development Committee

AGENCY: National Oceanic and Atmospheric Administration (NOAA), Department of Commerce.

ACTION: Notice of Open Meeting.

SUMMARY: A major activity of the Climate Change Science Program (CCSP) is the production of a series of 21 Synthesis and Assessment Products (SAPs) that are designed to inform and aid decision making by policy makers, resource managers, stakeholders, the media, and the general public on issues related to global climate change. The Unified Synthesis Product (USP) Development Committee (USPDC), established by a Decision Memorandum on February 29, 2008, is the Federal Advisory Committee charged with responsibility to develop a draft USP that will synthesize the information contained in the 21 SAPs in the context of other recent climate and global change scientific studies and formal assessments. Please note that meeting location, times, and agenda topics described here are subject to change. Meeting information will be available online on the USPDC website:

http://www.climate.noaa.gov/index.jsp?pg=./ccsp/unified_synthesis.jsp

DATES: The meeting will convene at 8 a.m. on Monday, May 19, 2008 and adjourn at 5:30 p.m. on Tuesday, May 20, 2008. Written comments (at least 35 copies) should be received by the USPDC Designated Federal Official (DFO) by May 2, 2008 to provide sufficient time for review. Written comments received after May 2 will be distributed to the USPDC, but may not be reviewed prior to the meeting date.

FOR FURTHER INFORMATION CONTACT: Dr. Christopher D. Miller, USPDC DFO and the Program Manager, NOAA/OAR/Climate Program Office, Climate Change Data and Detection Program Element, 1315 East-West Highway, Room 12239, Silver Spring, Maryland 20910; telephone 301-734-1241, e-mail: Christopher.D.Miller@noaa.gov.

SUPPLEMENTARY INFORMATION:

STATUS: The meeting will be open to public participation and will include a 30-minute public comment period on May 19, 8 a.m. to 8:30 a.m. (check the USPDC website to confirm this time and the room in which the meeting will be held). In general, each individual or group making a verbal presentation will be limited to a total time of five (5) minutes. Seats will be available to the public on a first-come, first-served basis.

MATTERS TO BE CONSIDERED: The meeting will finalize plans for completion and submission of the First Draft of the CCSP Unified Synthesis Product to the National Research Council for peer review.

Dated: April 24, 2008.
William J. Brennan,
Deputy Assistant Secretary of Commerce for International Affairs, and Acting Director, Climate Change Science Program.

[FR Doc. E8-9474 Filed 4-29-08; 8:45 am]

BILLING CODE 3510-12-S